DEPARTMENT OF ENERGY

Federal Energy Regulatory Commission

Combined Notice of Filings #1

Take notice that the Commission received the following electric corporate filings:

Docket Numbers: EC24-96-000.

Applicants: Coso Geothermal Power Holdings LLC, Arizona Solar One LLC, Mojave Solar LLC, Telocaset Wind Power Partners, LLC, High Prairie Wind Farm II, LLC, Old Trail Wind Farm, LLC, DCR Transmission, L.L.C., ECP ControlCo, LLC.

Description: Supplement to 06/27/2024 Joint Application for Authorization Under Section 203 of the Federal Power Act of Coso Geothermal Power Holdings LLC, et al.

Filed Date: 8/7/24.

Accession Number: 20240807-5154.

Comment Date: 5 p.m. ET 8/28/24.

Docket Numbers: EC24-109-000.

Applicants: CPV Maryland, LLC.

Description: Application for Authorization Under Section 203 of the Federal Power Act of CPV Maryland, LLC.

Filed Date: 8/7/24.

Accession Number: 20240807-5147.

Comment Date: 5 p.m. ET 8/28/24.

Take notice that the Commission received the following electric rate filings:

Docket Numbers: ER20-649-008; ER11-47-018; ER12-1540-016; ER12-1541-016; ER12-1542-016; ER12-1544-016; ER14-594-022; ER14-867-008; ER14-868-009; ER17-1930-011; ER17-1931-011; ER17-1932-011; ER19-606-008; ER20-2000-005; ER21-2555-003; ER21-2556-003.

Applicants: South River OnSite Generation, LLC, Martinsville OnSite Generation, LLC, Clyde Onsite Generation, LLC, AEP Generation Resources Inc., Southwestern Electric Power Company, AEP Texas Inc., Public Service Company of Oklahoma, AEP Retail Energy Partners, AEP Energy, Inc., Ohio Power Company, Wheeling Power Company, Kingsport Power Company, Kentucky Power Company, Indiana Michigan Power Company, Appalachian Power Company, AEP Energy Partners, Inc.

Description: Notice of Change in Status of AEP Energy Partners, Inc., et al.

Filed Date: 8/6/24.

Accession Number: 20240806-5158.

Comment Date: 5 p.m. ET 8/27/24.

Docket Numbers: ER21-9-006; ER21-86-006; ER21-88-006.

Applicants: Orange County Energy Storage 3 LLC, Orange County Energy Storage 2 LLC, Henrietta D Energy Storage LLC.

Description: Notice of Non-Material Change in Status of Henrietta D Energy Storage LLC, et al.

Filed Date: 7/31/24.

Accession Number: 20240731-5303.

Comment Date: 5 p.m. ET 8/21/24.

Docket Numbers: ER22-2643-003; ER23-1967-002.

Applicants: Three Corners Prime Tenant, LLC, Three Corners Solar, LLC.

Description: Notice of Non-Material Change in Status of Three Corners Solar, LLC, et al.

Filed Date: 8/7/24.

Accession Number: 20240807-5143.

Comment Date: 5 p.m. ET 8/28/24.

Docket Numbers: ER24-2524-000.

Applicants: Poblano Energy Storage, LLC.

Description: Supplement to 07/15/2024 Poblano Energy Storage, LLC, tariff filing.

Filed Date: 8/6/24.

Accession Number: 20240806-5160.

Comment Date: 5 p.m. ET 8/16/24.

Docket Numbers: ER24-2699-000.

Applicants: American Electric Power Service Corporation.

Description: Petition for Limited Waiver of Appalachian Power Company, et al.

Filed Date: 8/2/24.

Accession Number: 20240802-5171.

Comment Date: 5 p.m. ET 8/16/24.

Docket Numbers: ER24-2715-000.

Applicants: Timbermill Wind, LLC.

Description: Baseline eTariff Filing: Application for Market Based Rate to be effective 10/14/2024.

Filed Date: 8/8/24.

Accession Number: 20240808-5029.

Comment Date: 5 p.m. ET 8/29/24.

Docket Numbers: ER24-2716-000.

Applicants: PJM Interconnection, L.L.C.

Description: § 205(d) Rate Filing: Revisions to OA and RAA 1st & 2nd Quarter 2024 re: Membership Lists to be effective 6/30/2024.

Filed Date: 8/8/24.

Accession Number: 20240808-5033.

Comment Date: 5 p.m. ET 8/29/24.

Docket Numbers: ER24-2717-000.

Applicants: PJM Interconnection, L.L.C.

Description: Tariff Amendment: Notice of Cancellation of Service Agreement No. 5967, Queue No. AE1-084 to be effective 10/8/2024.

Filed Date: 8/8/24.

Accession Number: 20240808-5048.

Comment Date: 5 p.m. ET 8/29/24.

Docket Numbers: ER24-2718-000.

Applicants: Midcontinent Independent System Operator, Inc.

Description: § 205(d) Rate Filing: 2024-08-08_SA 3332 Southern Indiana Gas-Grandview Solar 2nd Rev GIA (783) to be effective 7/31/2024.

Filed Date: 8/8/24.

Accession Number: 20240808-5051.

Comment Date: 5 p.m. ET 8/29/24.

Docket Numbers: ER24-2719-000.

Applicants: American Electric Power Service Corporation, PJM Interconnection, L.L.C.

Description: § 205(d) Rate Filing: American Electric Power Service Corporation submits tariff filing per 35.13(a)(2)(iii: AEP submits one Facilities Agreement re: ILDSA, SA No. 1252 to be effective 11/1/2024.

Filed Date: 8/8/24.

Accession Number: 20240808-5070.

Comment Date: 5 p.m. ET 8/29/24.

Docket Numbers: ER24-2720-000.

Applicants: Ohio Power Company.

Description: § 205(d) Rate Filing: OPCO-TrAILCo Kammer Operations & Maintenance Services Agreement to be effective 10/7/2024.

Filed Date: 8/8/24.

Accession Number: 20240808-5082.

Comment Date: 5 p.m. ET 8/29/24.

Docket Numbers: ER24-2721-000.

Applicants: CPV Maryland, LLC.

Description: CPV Maryland LLC submit a Request for Prospective Tariff Waiver and Expedited Action.

Filed Date: 8/7/24.

Accession Number: 20240807-5156.

Comment Date: 5 p.m. ET 8/28/24.

Docket Numbers: ER24-2722-000.

Applicants: PJM Interconnection, L.L.C.

Description: Tariff Amendment: Notice of Cancellation of UCSA No. 7048, AF2-028 to be effective 10/8/2024.

Filed Date: 8/8/24.

Accession Number: 20240808-5106.

Comment Date: 5 p.m. ET 8/29/24.

Docket Numbers: ER24-2723-000.

Applicants: PJM Interconnection, L.L.C.

Description: § 205(d) Rate Filing: Original NSA, Service Agreement No. 7327; AE1-071 to be effective 10/8/2024.

Filed Date: 8/8/24.

Accession Number: 20240808-5108.

Comment Date: 5 p.m. ET 8/29/24.

Docket Numbers: ER24-2724-000.

Applicants: Idaho Power Company.

Description: § 205(d) Rate Filing: RS 179—Blacks Creek Energy Center, LLC—Procurement Agreement to be effective 8/2/2024.

Filed Date: 8/8/24.

Accession Number: 20240808-5111.

Comment Date: 5 p.m. ET 8/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 8, 2024.
Debbie-Anne A. Reese,
Acting Secretary.

[FR Doc. 2024-18151 Filed 8-13-24; 8:45 am]

BILLING CODE 6717-01-P